DEPARTMENT OF JUSTICE

Bureau of Alcohol, Tobacco, Firearms and Explosives

[OMB 1140-0077]

Agency Information Collection Activities; Proposed eCollection of eComments Requested; Report of Stolen or Lost Intrastate Purchase of Explosives Coupon (IPEC)

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The proposed information collection (IC) is also being published to obtain comments from the public and affected agencies.

DATES: Comments are encouraged and will be accepted for 60 days until July 12, 2022.

FOR FURTHER INFORMATION CONTACT: If you have additional comments regarding the estimated public burden or associated response time, suggestions, or need a copy of the proposed information collection instrument with instructions, or additional information, contact: Jason Lynch, United States Bomb Data Center, Office of Strategic Intelligence and Information, by mail at 3750 Corporal Road, Redstone Arsenal, AL 35898, email at Jason.Lynch@atf.gov, or telephone at 256-261-7580.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Extension without Change of a Currently Approved Collection.

2. The Title of the Form/Collection: Report of Stolen or Lost Intrastate Purchase of Explosives Coupon (IPEC).

3. The agency form number, if any, and the applicable component of the Department sponsoring the collection:

Form number (if applicable): None.

Component: Bureau of Alcohol, Tobacco, Firearms and Explosives, U.S. Department of Justice.

4. Affected public who will be asked or required to respond, as well as a brief abstract:

Primary: Business or other for-profit.

Other (if applicable): Individuals or households, and Farms.

Abstract: This collection is a reporting requirement for Federal explosives licensees and permittees to notify the Bureau of Alcohol, Tobacco, Firearms, and Explosives when an Intrastate Purchase of Explosives Coupon (IPEC)—ATF Form 5400.30 is stolen, lost, or destroyed, by telephoning 1-888-ATF-BOMB.

5. An estimate of the total number of respondents and the amount of time estimated for an average respondent to respond: An estimated 10 respondents will prepare reports for this collection once annually, and it will take each respondent approximately 20 minutes to complete their report.

6. An estimate of the total public burden (in hours) associated with the collection: The estimated annual public burden associated with this collection is 3.3. or 3 hours, which is equal to 10 (total respondents) * 1 (# of response per respondent) * .3333333 (20 minutes or the time taken to prepare each response).

If additional information is required contact: Melody Braswell, Department Clearance Officer, United States Department of Justice, Justice Management Division, Policy and Planning Staff, Two Constitution Square, 145 N Street NE, Mail Stop 3.E-405A, Washington, DC 20530.

Dated: May 9, 2022.
Melody Braswell,
Department Clearance Officer for PRA, U.S. Department of Justice.

[FR Doc. 2022-10282 Filed 5-12-22; 8:45 am]

BILLING CODE 4410-FY-P